DEPARTMENT OF THE INTERIOR

Bureau of Land Management

[AZ-240-06-1770-PC-211A]

Notice of Re-Opening for a Notice of Call for Nominations for the Sonoran Desert National Monument Advisory Committee

AGENCY: Bureau of Land Management, Interior.

ACTION: Notice of Re-Opening of Call for Nomination.

SUMMARY: This notice was previously published in the Federal Register Vol. 71, No. 242, Monday, December 18, 2006. Additional nominations are being requested for positions on the Sonoran Desert National Monument Advisory Council (SDNMAC). There are fifteen positions on the SDNMAC. A primary and alternate person will be selected for each position. This Federal Register notice will extend the call for nominations for positions on the Advisory Council and requests the public to submit nominations for membership on the SDNMAC. Any individual or organization may nominate one or more persons to serve on the SDNMAC. Individuals may nominate themselves for SDNMAC membership. All nominees that previously submitted complete nomination packages will be considered for SDNMAC positions and do not need to resubmit their information.

DATES: Submit nomination packets for positions to the address listed below no later than 21 days after date of publication of this notice in the Federal Register.

ADDRESSES: Send completed nomination packets to: SDNM Advisory Council, c/o Karen Kelleher, Monument Manager, BLM, Phoenix District, 21605 North 7th Avenue, Phoenix, Arizona 85027; Fax 623-580-5580; e-mail: AZ_SDNMAC@blm.gov.

FOR FURTHER INFORMATION CONTACT: Karen Kelleher, Monument Manager, Phone 623-580-5500 or e-mail AZ_SDNMAC@blm.gov. Nomination packets are also available for download at the BLM Internet site: http://www.blm.gov/az/sonoran/council.htm.

Dated: January 5, 2007.
Karen Kelleher,
Sonoran Desert National Monument Manager, Phoenix District of the Bureau of Land Management.

[FR Doc. E7-590 Filed 1-17-07; 8:45 am]

BILLING CODE 4310-32-P